DEPARTMENT OF ENERGY

Federal Energy Regulatory Commission

[Docket No. RP98-18-011]

Iroquois Gas Transmission System, L.P.; Notice of Negotiated Rate

July 12, 2004.

Take notice that on July 1, 2004, Iroquois Gas Transmission System, L.P. (Iroquois) tendered for filing FERC Gas Tariff, First Revised Volume No. 1, Original Sheet No. 6A, proposed to become effective July 1, 2004.

Iroquois states that the revised tariff sheet reflects a negotiated rate between Iroquois and KeySpan Ravenswood, Inc. for transportation under Rate Schedule RTS beginning July 1, 2004, through December 31, 2007.

Iroquois states that copies of its filing were served on all jurisdictional customers and interested state regulatory agencies and all parties to the proceeding.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-1606 Filed 7-15-04; 8:45 am]

BILLING CODE 6717-01-P